FEDERAL EMERGENCY MANAGEMENT AGENCY

[FEMA-3171-EM]

Space Shuttle Columbia; Emergency and Related Determinations

AGENCY: Federal Emergency Management Agency (FEMA).

ACTION: Notice.

SUMMARY: This is a notice of the Presidential declaration of an emergency for the Space Shuttle Columbia (FEMA-3171-EM), dated February 1, 2003, as amended, and related determinations.

EFFECTIVE DATE: February 1, 2003.

FOR FURTHER INFORMATION CONTACT: Magda Ruiz, Response and Recovery Directorate, Federal Emergency Management Agency, Washington, DC 20472, (202) 646-2705 or Magda.Ruiz@fema.gov.

SUPPLEMENTARY INFORMATION: Notice is hereby given that, in a memorandum for the Director of the Federal Emergency Management Agency dated February 6, 2003, the President amended and restated his February 1, 2003, declaration of an emergency under the authority of the Robert T. Stafford Disaster Relief and Emergency Assistance Act, 42 U.S.C. §§ 5121-5206 (Stafford Act), as follows:

I have determined that the emergency conditions in certain areas of the United States in connection with the events relating to the loss of the Space Shuttle Columbia on February 1, 2003, are of sufficient severity and magnitude to warrant an emergency declaration under section 501(b) of the Robert T. Stafford Disaster Relief and Emergency Assistance Act, 42 U.S.C. 5121-5206 (the “Stafford Act”). The basis for my decision to make this declaration pursuant to section 501(b) of the Stafford Act includes the fact that the space shuttle and the space program are Federal property and Federal programs. I, therefore, declare that such an emergency exists for this event.

In order to provide Federal assistance, you are hereby authorized to coordinate and direct other Federal agencies and fund activities not authorized under other Federal statutes and allocate from funds available for these purposes, such amounts as you find necessary for Federal emergency assistance and administrative expenses.

Pursuant to this emergency declaration, you are authorized to provide emergency assistance as you deem appropriate under Title V of the Stafford Act at 100 percent Federal funding in the State of Texas.

Pursuant to this emergency declaration, you are also authorized to provide only Federal Operations Support for debris removal under Title V of the Stafford Act, at 100 percent Federal funding, in any other State where you determine the need exists. FEMA will consult with the Governor of any affected State before providing assistance.

This declaration does not affect the February 1, 2003, declaration under the Stafford Act for Louisiana as a result of the loss of the Space Shuttle Columbia.

Further, you are authorized to make changes to this declaration to the extent allowable under the Stafford Act.

Notice is hereby given that pursuant to the authority vested in the Director of the Federal Emergency Management Agency under Executive Order 12148, I hereby appoint Alexander S. Wells of the Federal Emergency Management Agency to act as the Federal Coordinating Officer for this declared emergency.

I do hereby determine the following areas of the State of Texas to have been affected adversely by this declared emergency:

Anderson, Angelina, Bell, Cherokee, Collin, Comanche, Dallas, Eastland, Ellis, Franklin, Freestone, Grayson, Gregg, Harrison, Henderson, Hunt, Jefferson, Johnson, Kaufman, Leon, McLennan, Milam, Montgomery, Nacogdoches, Navarro, Orange, Panola, Parker, Rusk, Sabine, San Augustine, Shelby, Smith, Tarrant, Upshur, Walker, Williamson, and Wood Counties for debris removal (Category A) and emergency protective measures (Category B) under the Public Assistance program at 100 percent Federal funding.

Further, Federal Operations Support for debris removal (Category A) may be provided in any other State where I determine, at a later date, that the need exists.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560 Individual and Household Program—Other Needs; 83.544, Public Assistance Grants; 83.548, Hazard Mitigation Grant Program.)

Joe M. Allbaugh,
Director.

[FR Doc. 03-4726 Filed 2-27-03; 8:45 am]

BILLING CODE 6718-02-P